DEPARTMENT OF COMMERCE

National Oceanic and Atmospheric Administration

Climate Change Science Program (CCSP) Product Development Committee (CPDC) for Synthesis and Assessment Product 5.3; Meeting

AGENCY: Office of Oceanic and Atmospheric Research (OAR), National Oceanic and Atmospheric Administration (NOAA), Department of Commerce (DOC).

ACTION: Notice of Open Meeting.

SUMMARY: The Climate Change Science Program (CCSP) Product Development Committee for Synthesis and Assessment Product 5.3 (CPDC—S&A 5.3) was established by Charter on October 12, 2006. CPDC—S&A 5.3 is the Federal Advisory Committee charged with responsibility to develop a draft Synthesis and Assessment Product that addresses CCSP Topic 5.3: “Decision-Support Experiments and Evaluations Using Seasonal to Interannual Forecasts and Observational Data”.

Time and Date: The meeting will be held Monday, December 11, 2006 from 11 a.m. to 1 p.m. This time and the agenda topics described below are subject to change. Refer to the Web page http://www.climate.noaa.gov/index.jsp?pg=./ccsp/53.jsp for the most up-to-date meeting agenda.

Place: The meeting will be held via teleconference. Please contact Dr. Nancy Beller-Simms for further information (contact information follows).

Status: The meeting will be open to public participation with a 30-minute public comment period on December 11 from 12:30-1 p.m. (times are dependent on number of participants; check Web site to confirm this time). In general, each individual or group making a verbal presentation will be limited to a total time of five (5) minutes. Written comments (at least 35 copies) should be received by the CPDC—S&A 5.3 Designated Federal Official by December 5, 2006 to provide sufficient time for review. Written comments received after that date will be distributed to the CPDC—S&A 5.3, but may not be reviewed prior to the meeting date.

Matters to Be Considered: The meeting will include, but not be limited to, the following topics: (1) Discussion of procedures for completion of the first draft of the Synthesis and Assessment Product 5.3; (2) Discussion of plans for completion and submission of future drafts and procedures; (3) Discussion of a stakeholder workshop to be held in early January.

FOR FURTHER INFORMATION CONTACT: Dr. Nancy Beller-Simms, Designated Federal Official, CPDC—S&A 5.3 (NOAA Climate Program Office, 1315 East West Highway, Room 12221, Silver Spring, Maryland 20910. Phone: 301-734-1200, Fax: 301-713-0515, E-mail: Nancy.Beller-Simms@noaa.gov) or visit the Web site at http://www.climate.noaa.gov/index.jsp?pg=./ccsp/53.jsp.

Dated: November 14, 2006.
Mark E. Brown,
Chief Financial Officer and Chief Administrative Officer, Office of Oceanic and Atmospheric Research, National Oceanic and Atmospheric Administration.

[FR Doc. E6-19515 Filed 11-17-06; 8:45 am]

BILLING CODE 3510-22-P